DEPARTMENT OF AGRICULTURE

Forest Service

Yakutat Resource Advisory Committee

AGENCY: Forest Service, USDA.

ACTION: Notice of meeting.

SUMMARY: The Yakutat Resource Advisory Committee (RAC) will meet in Yakutat, Alaska. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following Web site http://cloudapps-usda-gov.force.com/FSSRS/RAC_Page?id=001t0000002JcvkAAC.

DATES: The meeting will be held September 28, 29 and 30, 2016 from 6 p.m. to 8 p.m.

All RAC meetings are subject to cancellation. For status of meeting prior to attendance, please contact: Lee A. Benson, District Ranger and Deisgnated Federal Official, Yakutat Ranger District, (907) 784-3359.

ADDRESSES: The meeting will be held at the Kwaan Conference Room, 712 Ocean Cape Drive, Yakutat, Alaska. Send written comments to Lee A. Benson,c/o Forest Service, USDA, P.O. Box 327, Yakutat, AK 99689, electronically to labenson@fs.fed.us, or via facsimile to 907-784-3457.

Written comments may be submitted as described under Supplementary Information. All comments, including names and addresses when provided, are placed in the record and are available for public inspection and copying. The public may inspect comments received at the Yakutat Ranger District Office. Please call ahead to facilitate entry into the building.

FOR FURTHER INFORMATION CONTACT: Lee A. Benson, District Ranger by phone at (907) 784-3359 or via email at labenson@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to: Review current and completed projects. We will also review proposals submitted for 2017 through 2019 project years.

The meeting is open to the public. The agenda will include time for people to make oral statements of three minutes or less. Individuals wishing to make an oral statement should request in writing by September 16, 2106 to be scheduled on the agenda. Anyone who would like to bring related matters to the attention of the committee may file written statements with the committee staff before or after the meeting. Written comments and requests for time to make oral comments must be sent to Lee A. Benson, District Ranger, P.O. Box 327, Yakutat, AK 99689 by email to labenson@fs.fed.us, or via facsimile to (907) 784-3457.

Meeting Accommodations: If you are a person requiring reasonable accommodation, please make requests in advance for sign language interpreting, assistive listening devices or other reasonable accommodation for access to the facility or proceedings by contacting the person listed in the section titled For Further Information Contact. All reasonable accommodation requests are managed on a case by case basis.

Dated: August 31, 2016.
Lee A. Benson,
District Ranger.

[FR Doc. 2016-21803 Filed 9-9-16; 8:45 am]

BILLING CODE 3411-15-P